DEPARTMENT OF TRANSPORTATION

National Highway Traffic Safety Administration

[Docket No. NHTSA 2002-13272]

Defect and Noncompliance Reports, Part 573; Agency Information Collection Activity Under OMB Review

AGENCY: National Highway Traffic Safety Administration (NHTSA), DOT.

ACTION: Request for public comment on proposed collection of information.

SUMMARY: Before a Federal agency can collect certain information from the public, it must receive approval from the Office of Management and Budget (OMB). This document describes a renewal of a collection of information for 49 CFR part 573, Defect and Noncompliance Reports, currently assigned the OMB control number 2127-0004, for which NHTSA intends to seek OMB approval.

Under the Paperwork Reduction Act of 1995 (PRA), before an agency submits a proposed collection of information to OMB for approval, it must publish a document in the Federal Register providing a 60-day comment period and otherwise consult with members of the public and affected agencies concerning each proposed collection of information. OMB has promulgated regulations describing what must be included in such a document.

Pursuant to OMB's regulations (at 5 CFR 1320.8(d)), public comments are invited on the following:

(i) Whether the proposed collection of information is necessary for the proper performance of the functions of the agency, including whether the information will have practical utility;

(ii) The accuracy of the agency's estimate of the burden of the proposed collection of information, including the validity of the methodology and assumptions;

(iii) How to enhance the quality, utility, and clarity of the information to be collected; and

(iv) How to minimize the burden of the collection of information on those who are to respond, including the use of appropriate automated, electronic, mechanical, or other technological collection techniques or other forms of information technology, e.g., permitting electronic submission of responses.

DATES: Comments must be received on or before November 8, 2002.

ADDRESSES: Comments must refer to the docket and notice numbers cited at the beginning of this notice and must be submitted to Docket Management, Room PL-401, 400 Seventh Street SW., Washington, DC 20590. The Docket is open on weekdays from 9:30 a.m. to 5:00 p.m.

FOR FURTHER INFORMATION CONTACT: Mr. George Person, Office of Defects Investigation, NHTSA, 400 Seventh Street, SW., Room 5326, Washington, DC 20590. Mr. Person's telephone number is (202) 366-5210.

SUPPLEMENTARY INFORMATION: Title: 49 CFR part 573, Defect and Noncompliance Reports.

Type of Request: Renewal.

OMB Clearance Number: 2127-0004.

Requested Expiration Date of Approval: Three years from effective date of final rule.

Summary of Collection of Information: NHTSA's statute at 49 U.S.C. 30112 and 30116 through 30121 requires manufacturers of motor vehicles and motor vehicle equipment to recall and remedy their products that do not comply with applicable Federal motor vehicle safety standards or that contain a defect related to motor vehicle safety. The manufacturer must notify NHTSA, owners, purchasers, and dealers of such defects and noncompliances. Additionally, the manufacturer must furnish NHTSA with a true copy of all notices, bulletins, and other communications to the manufacturer's dealers, owners and purchasers regarding any defect or noncompliance in the manufacturer's vehicle or item of equipment.

To implement this authority, in 1978 NHTSA promulgated 49 CFR part 573, Defect and Noncompliance Reports, (with amendments through 2002). This regulation sets out the following requirements, among others:

(1) Manufacturers are to provide specific information in reports that must be filed with NHTSA within five working days of a decision that a safety-related defect or noncompliance exists;

(2) Manufacturers are to submit quarterly reports to NHTSA on the progress of recall campaigns for six consecutive calendar quarters beginning with the quarter in which the campaign was initiated;

(3) Manufacturers are to furnish copies to NHTSA of notices, bulletins, and other communications to dealers, owners, or purchasers regarding any defect or noncompliance; and

(4) Manufacturers are to retain records of owners or purchasers of their products that have been involved in a recall campaign.

Description of the Need for the Information and Proposed Use of the Information: NHTSA needs this information to ensure that manufacturers are remedying safety-related defects and noncompliances in their products. Additionally, NHTSA makes this information available to the public. If the manufacturers did not provide the information, it would be a violation of law which could subject the manufacturer to a civil penalty and possible injunctive sanctions, and NHTSA's efforts to monitor the effectiveness of recall campaigns, as part of its overall mission of improving public safety on the Nation's highways, would be substantially impaired.

Description of the Likely Respondents (Including Estimated Number and Proposed Frequency of Responses to the Collection of Information): All manufacturers of motor vehicles and motor vehicle equipment are required to comply with these requirements whenever they conduct a recall. There have been approximately 500 such reports provided to NHTSA annually in recent years. Although fewer than 250 manufacturers submit such reports in any given year, there are approximately 26,000 manufacturers of vehicles and equipment that could possibly be affected by this requirement. Additionally, all manufacturers must maintain records of the names and addresses of the owners of the products affected by their recalls.

Estimate of the Total Annual Reporting and Recordkeeping Burden of the Collection of Information in the NPRM: We estimate that providing a notification letter to NHTSA would require 4 hours, each of the 6 quarterly reports would require 4 hours (for a total of 24 hours), providing copies of the other documents would require 1 hour, and maintenance of the list of owners would require 8 hours. The reporting and recordkeeping burden for each recall is therefore estimated to be 4+24+1+8 or 37 hours. The total annual burden is therefore estimated to be 37 x 500 or 17,500 hours.

Estimate of the Total Annual Costs of the Collection of Information in the NPRM: The total annual cost of this information collection is estimated to be $525,000 assuming an average burdened wage rate of $30 per hour.

Authority: 44 U.S.C. 3506(c); delegation of authority at 49 CFR 1.50.

Kenneth N. Weinstein,
Associate Administrator for Enforcement.

[FR Doc. 02-22799 Filed 9-6-02; 8:45 am]

BILLING CODE 4910-59-P